ENVIRONMENTAL PROTECTION AGENCY

40 CFR Part 52

[EPA-R05-OAR-2019-0377; FRL-10002-93-Region 5]

Air Plan Approval; Indiana; Second Maintenance Plan for 1997 Ozone NAAQS

AGENCY: Environmental Protection Agency (EPA).

ACTION: Final rule.

SUMMARY: Pursuant to the Clean Air Act (CAA), the Environmental Protection Agency (EPA) is approving as a revision to the Indiana State Implementation Plan (SIP), the State's plan for maintaining the 1997 ozone National Ambient Air Quality Standards (NAAQS) through the end of the second 10-year maintenance period. On June 20, 2019, the Indiana Department of Environmental Management submitted the State's plan for maintaining the 1997 ozone NAAQS for the Indianapolis, La Porte County, and South Bend-Elkhart areas and the Indiana portions of the Chicago-Gary-Lake County, IL-IN (Chicago), Cincinnati-Hamilton, OH-KY-IN (Cincinnati), and Louisville, KY-IN (Louisville) multi-state areas. EPA proposed to approve the submission on September 25, 2019, and received no comments. This action makes certain commitments related to maintenance of the 1997 ozone NAAQS in these areas federally enforceable as part of the Indiana SIP.

DATES: This final rule is effective on January 13, 2020.

ADDRESSES: EPA has established a docket for this action under Docket ID No. EPA-R05-OAR-2019-0377. All documents in the docket are listed on the www.regulations.gov website. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays. We recommend that you telephone Charles Hatten, Environmental Engineer, at (312) 886-6031 before visiting the Region 5 office.

FOR FURTHER INFORMATION CONTACT: Charles Hatten, Environmental Engineer, Control Strategies Section, Air Programs Branch (AR-18J), Environmental Protection Agency, Region 5, 77 West Jackson Boulevard, Chicago, Illinois 60604, (312) 886-6031, hatten.charles@epa.gov.

SUPPLEMENTARY INFORMATION: Throughout this document, the terms “we”, “us”, and “our” refer to the EPA.

I. What is being addressed in this document?

This rule approves Indiana's June 20, 2019 submission to provide for maintenance of the 1997 ozone NAAQS for the Indianapolis, La Porte County, and South Bend-Elkhart areas and the Indiana portions of the Chicago, Cincinnati, and Louisville areas through the end of the second 10-year maintenance period. The background for this action is discussed in detail in EPA's notice of proposed rulemaking (NPRM), dated September 25, 2019 (84 FR 50354).

II. What comments did we receive on the proposed rule?

In the NPRM, EPA provided a 30-day review and comment period for the proposed rule. The comment period ended on October 25, 2019. We received no comments on the proposed rule.

III. What action is EPA taking?

EPA is approving, as a revision to the Indiana SIP, the State's plan for maintaining the 1997 ozone NAAQS for the Indianapolis, La Porte County, and South Bend-Elkhart areas and the Indiana portions of the Chicago, Cincinnati, and Louisville areas through the end of the second 10-year maintenance period.

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because it is not a significant regulatory action under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address disproportionate human health or environmental effects with practical, appropriate, and legally permissible methods under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen oxides, Ozone, Volatile organic compounds.

Dated: November 25, 2019.
Cathy Stepp,
Regional Administrator, Region 5.

40 CFR part 52 is amended as follows:

PART 52—APPROVAL AND PROMULGATION OF IMPLEMENTATION PLANS

1. The authority citation for part 52 continues to read as follows:

Authority: 42 U.S.C. 7401 et seq.

2. In § 52.770, the table in paragraph (e) is amended by:

a. Removing the entry for “Cincinnati-Hamilton, OH-KY-IN 1997 8-hour ozone maintenance plan” and adding in its place the entry “Ozone (8-Hour, 1997): Cincinnati-Hamilton, OH-KY-IN (Dearborn County (part))”;

b. Removing the entry for “Indianapolis Hydrocarbon Control Strategy” and adding in its place the entry “Ozone (8-Hour, 1997): Indianapolis, IN (Boone, Hamilton, Hancock, Hendricks, Johnson, Madison, Marion, Morgan, and Shelby Counties)”;

c. Removing the entry for “Lake and Porter Counties 1997 8-hour ozone maintenance plan” and adding in its place the entry “Ozone (8-Hour, 1997): Chicago-Gary-Lake County, IL-IN (Lake and Porter Counties)”;

d. Removing the entry for “LaPorte Hydrocarbon Control Strategy” and adding in its place the entry “Ozone (8-Hour, 1997): LaPorte CO., IN (LaPorte County)”;

e. Removing the two entries for “Louisville Hydrocarbon Control Strategy” and adding in their place the entry “Ozone (8-Hour, 1997): Louisville, KY-IN (Clark and Floyd Counties)”; and

f. Removing the entries for “South Bend-Elkhart 1997 8-hour ozone maintenance plan” and “South Bend-Elkhart Hydrocarbon Control Strategy” and adding in their place the entry “Ozone (8-Hour, 1997): South Bend-Elkhart, IN (Elkhart and St. Joseph Counties)”.

The additions read as follows:

§ 52.770 Identification of plan.

* * * * *

(e) * * *

EPA-Approved Indiana Nonregulatory and Quasi-Regulatory Provisions
Title | Indiana date | EPA approval | Explanation
* * * * * * *
Ozone (8-Hour, 1997): Cincinnati-Hamilton, OH-KY-IN (Dearborn County (part)) | 6/20/2019 | 12/13/2019, [insert Federal Register citation] | 2nd maintenance plan.
* * * * * * *
Ozone (8-Hour, 1997): Indianapolis, IN (Boone, Hamilton, Hancock, Hendricks, Johnson, Madison, Marion, Morgan, and Shelby Counties) | 6/20/2019 | 12/13/2019, [insert Federal Register citation] | 2nd maintenance plan.
* * * * * * *
Ozone (8-Hour, 1997): Chicago-Gary-Lake County, IL-IN (Lake and Porter Counties) | 6/20/2019 | 12/13/2019, [insert Federal Register citation] | 2nd maintenance plan.
* * * * * * *
Ozone (8-Hour, 1997): LaPorte CO., IN (LaPorte County) | 6/20/2019 | 12/13/2019, [insert Federal Register citation] | 2nd maintenance plan.
* * * * * * *
Ozone (8-Hour, 1997): Louisville, KY-IN (Clark and Floyd Counties) | 6/20/2019 | 12/13/2019, [insert Federal Register citation] | 2nd maintenance plan.
* * * * * * *
Ozone (8-Hour, 1997): South Bend-Elkhart, IN (Elkhart and St. Joseph Counties) | 6/20/2019 | 12/13/2019, [insert Federal Register citation] | 2nd maintenance plan.
* * * * * * *

[FR Doc. 2019-26686 Filed 12-12-19; 8:45 am]

BILLING CODE 6560-50-P